INTERNATIONAL TRADE COMMISSION

[Investigation No. 337-TA-1139]

Certain Electronic Nicotine Delivery Systems and Components Thereof; Notice of Commission Decision Not To Review an Initial Determination Granting-in-Part a Joint Motion To Amend the Complaint and Notice of Investigation

AGENCY: U.S. International Trade Commission.

ACTION: Notice.

SUMMARY: Notice is hereby given that the U.S. International Trade Commission has determined not to review an initial determination (“ID”) (Order No. 10) of the Administrative Law Judge (“ALJ”) granting-in-part a joint motion to amend the complaint and notice of investigation (“NOI”).

FOR FURTHER INFORMATION CONTACT: Houda Morad, Office of the General Counsel, U.S. International Trade Commission, 500 E Street SW, Washington, DC 20436, telephone (202) 708-4716. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: On December 13, 2018, the Commission instituted this investigation under section 337 of the Tariff Act of 1930, as amended, 19 U.S.C. 1337 (“section 337”), based on a complaint filed by Juul Labs, Inc. of San Francisco, California (“Complainant”). See 83 FR 64156-57 (Dec. 13, 2018). The complaint, as amended and supplemented, alleges a violation of section 337 based upon the importation into the United States, the sale for importation, and the sale within the United States after importation of certain electronic nicotine delivery systems and components thereof by reason of infringement of certain claims of U.S. Patent No. 10,070,669; U.S. Patent No. 10,076,139; U.S. Patent No. 10,045,568; U.S. Patent No. 10,058,130; and U.S. Patent No. 10,104,915. See id. The NOI names numerous respondents, including: Limitless Mod Co. of Simi Valley, California (“Limitless”); Asher Dynamics, Inc. of Chino, California (“Asher Dynamics”); and Ply Rock of Chino, California. See id. The Office of Unfair Import Investigations (“OUII”) is also a party to the investigation. See id.

On February 1, 2019, Complainant and respondents Limitless, Asher Dynamics, and Ply Rock (collectively, “the Asher Respondents”) filed a joint motion to amend the complaint and NOI to: (1) Correct the name of respondent Limitless to “Limitless MOD, LLC” and (2) terminate the investigation as to the Asher Respondents. On February 13, 2019, OUII filed a response in support of the joint motion.

On February 28, 2019, the ALJ issued the subject ID (Order No. 10) granting-in-part the joint motion. The ID finds that, under Commission Rule 210.14(b), 19 CFR 210.14(b), “good cause exists to amend the complaint and notice of investigation to conform to the correct information.” See ID at 2. In addition, the ID finds that “this amendment would not prejudice the public interest or the rights of the parties to the investigation.” See id. The ID further notes that “[t]he request for termination of the Asher Respondents will be ruled upon in a separate order.” See id. at 2 n.2; Order No. 11 (Feb. 28, 2019).

No petition for review of the subject ID was filed. The Commission has determined not to review the ID.

The authority for the Commission's determination is contained in section 337 of the Tariff Act of 1930, as amended (19 U.S.C. 1337), and in part 210 of the Commission's Rules of Practice and Procedure (19 CFR part 210).

By order of the Commission.
Issued: March 27, 2019.
Katherine Hiner,
Acting Secretary to the Commission.

[FR Doc. 2019-06321 Filed 4-1-19; 8:45 am]

BILLING CODE 7020-02-P